TRADE AND DEVELOPMENT AGENCY

Privacy Act of 1974; System of Records

AGENCY: Trade and Development Agency.

ACTION: Notice of system of records.

SUMMARY: Pursuant to the Privacy Act of 1974, the U.S. Trade and Development Agency (USTDA), is publishing a notice of the existence and character of its system of records (SORN) for collecting and maintaining records related to requests for reasonable accommodations, religious accommodations, and medical and religious exceptions to the requirement that federal employees be vaccinated against the coronavirus disease 2019 (COVID-19). The system of records is being established to: Allow USTDA to collect and maintain records on prospective, current, and former employees who request or receive a reasonable accommodation by USTDA; allow USTDA to collect and maintain records on prospective, current, and former employees with sincerely held religious beliefs, practices, or observances who request or receive an accommodation by USTDA; allow USTDA to collect and maintain records on vaccinations against COVID-19; allow USTDA to collect and maintain records on prospective, current, and former employees who request an exception to the requirement that federal employees be vaccinated against COVID-19; and preserve and maintain the confidentiality of medical and religious information submitted by or on behalf of applicants or employees requesting an accommodation or exception.

DATES: The system is effective upon December 16, 2021.

ADDRESSES: Angelia Vicchiollo, Senior Agency Official for Privacy, U.S. Trade and Development Agency, 1101 Wilson Blvd., Suite 1100, Arlington, VA 22209. Email: avicchiollo@ustda.gov. Telephone: (703) 875-4357.

FOR FURTHER INFORMATION CONTACT: Angelia Vicchiollo, Senior Agency Official for Privacy, U.S. Trade and Development Agency, 1101 Wilson Blvd., Suite 1100, Arlington, VA 22209. Email: avicchiollo@ustda.gov. Telephone: (703) 875-4357.

SUPPLEMENTARY INFORMATION: On September 9, 2021, President Biden issued Executive Order 14043, Requiring Coronavirus Disease 2019 Vaccination for Federal Employees, requiring the COVID-19 vaccination for all Federal employees, subject to such exceptions as required by law. On October 4, 2021, the Safer Federal Workforce Task Force issued guidance to Federal agencies regarding collecting information for medical and religious accommodations. Further, USTDA collects and maintains records related to requests for reasonable accommodations, in conformity with Executive Order 13164, Requiring Federal Agencies to Establish Procedures to Facilitate the Provision of Reasonable Accommodation (July 26, 2000) and Executive Order 13548, Increasing Federal Employment of Individuals with Disabilities (July 26, 2010). In order to meet the requirements of these Executive Orders and the Task Force recommendations, USTDA is creating this system of records to allow the collection of information related to reasonable accommodations, religious accommodations and medical and religious exceptions to the requirement that federal employees by vaccinated against COVID-19.

System Name and Number:

USTDA-1 Accommodation Request Records.

SECURITY CLASSIFICATION:

Unclassified.

SYSTEM LOCATION:

The accommodation request files in the system are maintained at USTDA, 1101 Wilson Blvd., Suite 1100, Arlington, VA 22209.

SYSTEM MANAGER(S):

Matt Cox, Reasonable Accommodation Manager, U.S. Trade and Development Agency, 1101 Wilson Blvd., Suite 1100, Arlington, VA 22209. Email: mcox@ustda.gov. Telephone: (571) 236-2154.

AUTHORITY FOR MAINTENANCE OF THE SYSTEM:

The Rehabilitation Act of 1973, 29 U.S.C. 701, 791, 794; Title VII of the Civil Rights Act of 1964, 42 U.S.C. 2000e; 29 CFR 1605 (Guidelines on Discrimination Because of Religion); 29 CFR 1614 (Federal Sector Equal Employment Opportunity); 5 U.S.C. 302, 1103; Executive Order 13164, Requiring Federal Agencies to Establish Procedures to Facilitate the Provision of Reasonable Accommodation (July 26, 2000); Executive Order 13548, Increasing Federal Employment of Individuals with Disabilities (July 26, 2010); and Executive Order 14043, Requiring Coronavirus Disease 2019 Vaccination for Federal Employees (September 9, 2021).

PURPOSE(S) OF THE SYSTEM:

The purpose of the system is to facilitate providing different types of accommodations and exceptions to USTDA employees who meet the relevant requirements.

CATEGORIES OF INDIVIDUALS COVERED BY THE SYSTEM:

Individuals covered by this system include (i) prospective, current, and former USTDA employees who request reasonable accommodation for a disability, medical condition, or sincerely held religious belief, practice, or observance, and (ii) authorized individuals or representatives (e.g., family members or health professionals) who file such a request on behalf of a prospective, current, or former employee.

CATEGORIES OF RECORDS IN THE SYSTEM:

The system may contain some or all of the following categories of records: (1) Requests for accommodation, including medical records, information on religious beliefs and practices, and notes; (2) records made during consideration of requests; and (3) decisions on requests. These records may contain one or more of the following types of information: The employee or applicant's name, email address, mailing address, phone number, information concerning the nature of the disability or medical condition and the need for accommodation, medical information, information concerning the nature of the sincerely held religious belief, practice, or observation and the need for an accommodation, details regarding the requested accommodation, any additional information provided by the employee or applicant related to processing the request, and whether the accommodation was approved. If an accommodation request is made by a family member, health professional, or other representative of a USTDA employee or applicant, the records may also contain the requestor's name, email address, mailing address, phone number, and any additional information provided by the requestor related to processing the request.

RECORD SOURCE CATEGORIES:

Data in this system is obtained from individuals covered by the system, as well as from health professionals.

ROUTINE USES OF RECORDS MAINTAINED IN THE SYSTEM, INCLUDING CATEGORIES OF USERS AND PURPOSES OF SUCH USES:

In addition to those disclosures generally permitted under 5 U.S.C. 552a (b) of the Privacy Act, all or a portion of the records or information contained in this system may be disclosed outside of USTDA as a routine use pursuant to 5 U.S.C. 552a (b)(3) as follows:

1. A record may be disclosed as a routine use to a Member of Congress or his or her staff, when the Member of Congress or his or her staff requests the information on behalf of, and at the request of, the individual who is the subject of the record.

2. A record may be disclosed as a routine use to designated officers and employees of other agencies and departments of the Federal government having an interest in the subject individual for employment purposes (including the hiring or retention of any employee; the issuance of a security clearance; the signing of a contract; or the issuance of a license, grant, or other benefits by the requesting agency) to the extent that the information is relevant and necessary to the requesting agency's decision on the matter involved.

3. In the event that a record in a system of records maintained by USTDA indicates, either by itself or in combination with other information in USTDA's possession, a violation or potential violation of the law (whether civil, criminal, or regulatory in nature, and whether arising by statute or by regulation, rule, or order issued pursuant thereto), that record may be referred, as a routine use, to the appropriate agency, whether Federal, state, local, or foreign, charged with investigating or prosecuting such violation, or charged with enforcing or implementing the statute, rule, regulation, or order issued pursuant thereto. Such referral shall be deemed to authorize: (1) Any and all appropriate and necessary uses of such records in a court of law or before an administrative board or hearing; and (2) such other interagency referrals as may be necessary to carry out the receiving agencies' assigned law enforcement duties.

4. A record may be disclosed as a routine use in the course of presenting evidence to a court, magistrate, or administrative tribunal of appropriate jurisdiction, and such disclosure may include disclosures to opposing counsel in the course of settlement negotiations.

5. A record may be disclosed as a routine use to a contractor, expert, or consultant of USTDA (or an office within USTDA) when the purpose of the release is to perform a survey, audit, or other review of USTDA's procedures and operations.

6. A record from the system may be disclosed as a routine use to the National Archives and Records Administration (NARA) as part of records management inspections conducted under the authority of 44 U.S.C. 2904 and 2906.

7. A record may be disclosed to a contractor, grantee, or other recipient of Federal funds when the record to be released reflects serious inadequacies with the recipient's personnel, and disclosure of the record is for the purpose of permitting the recipient to effect corrective action in the Federal government's best interest.

8. A record may be disclosed to appropriate agencies, entities, and persons when (1) USTDA suspects or has confirmed that there has been a breach of the system of records, (2) USTDA has determined that as a result of the suspected or confirmed breach there is a risk of harm to individuals, USTDA (including its information systems, programs, and operations), the Federal Government, or national security, and (3) the disclosure made to such agencies, entities, and persons is reasonably necessary to assist in connection with USTDA's efforts to respond to the suspected or confirmed breach or to prevent, minimize, or remedy such harm.

9. A record may be disclosed to another Federal agency or Federal entity, when USTDA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. A record may be disclosed to the Department of Justice when (a) USTDA, (b) any employee of USTDA in such person's official capacity, (c) any employee of USTDA in such person's individual capacity where the Department of Justice has agreed to represent the employee, or (d) the United States, where USTDA determines that litigation is likely to affect the agency, in each case, is a party to litigation or has an interest in such litigation, and the use of such records by the Department of Justice is deemed by USTDA to be relevant and necessary to the litigation.

11. A record may be disclosed to a court or adjudicative body before which USTDA is authorized to appear when (a) USTDA, (b) any employee of USTDA in such person's official capacity, (c) any employee of USTDA in such person's individual capacity where USTDA has agreed to represent the employee, or (d) the United States, where USTDA determines that litigation is likely to affect the agency, in each case, is a party to litigation or has an interest in such litigation, and USTDA determines that use of such records is relevant and necessary to the litigation.

12. A record may be disclosed to first aid and safety personnel if the individual's medical condition requires emergency treatment.

POLICIES AND PRACTICES FOR STORAGE OF RECORDS:

Paper and electronic records.

POLICIES AND PRACTICES FOR RETRIEVAL OF RECORDS:

Information in these case files may be retrieved by the employee or applicant's name.

POLICIES AND PRACTICES FOR RETENTION AND DISPOSAL OF RECORDS:

USTDA reasonable accommodation request records are temporary records and are destroyed in accordance with the disposition instructions in the NARA Records Schedule (a supplement to the NARA Files Maintenance and Records Disposition Manual). Individuals may request a copy of the disposition instructions from the USTDA Senior Agency Official for Privacy.

ADMINISTRATIVE, TECHNICAL AND PHYSICAL SAFEGUARDS:

Paper records are maintained in areas accessible only to authorized USTDA personnel. Electronic records are accessible via a single computer that requires double-factor authentication to access, and that is accessible only to the Reasonable Accommodation Manager. After business hours, buildings have secured doors, and all entrances are monitored by electronic surveillance equipment.

RECORD ACCESS PROCEDURES:

People who wish to access their records or to determine whether this system of records contains information about themselves should submit a request in writing to the Senior Agency Official for Privacy, U.S. Trade and Development Agency, 1101 Wilson Blvd., Suite 1100, Arlington, VA 22209. Email: avicchiollo@ustda.gov.

CONTESTING RECORD PROCEDURES:

See Record Access Procedures.

NOTIFICATION PROCEDURES:

See Record Access Procedures.

EXEMPTIONS PROMULGATED FOR THIS SYTEM:

None.

HISTORY:

None.

Issued in Washington, DC, on December 12, 2021.
Angelia Vicchiollo,
Senior Agency Official for Privacy, U.S. Trade and Development Agency.

[FR Doc. 2021-27256 Filed 12-15-21; 8:45 am]

BILLING CODE P